DEPARTMENT OF JUSTICE

Notice of Lodging of Consent Decree Under The Clean Air Act

Notice is hereby given that on May 4, 2011, a proposed Consent Decree (“Decree”) in United States v. Rocky Mountain Pipeline System, LLC, et al., Civil Action No. 11-CV-1188RPM-CBS was lodged with the United States District Court for the District of Colorado.

The Decree between the United States and Rocky Mountain Pipeline System, LLC, Western Convenience Stores, Inc., and Offen Petroleum, Inc. (collectively, the “Defendants”) resolves claims asserted in a simultaneously filed complaint brought pursuant to Section 211(d) of the Clean Air Act, as amended (“Act”), 42 U.S.C. 7545(d), for alleged violations of Section 211 of the Act, 42 U.S.C. 7545, and regulations promulgated thereunder at 40 CFR Part 80 (“Fuels Regulations”) and 40 CFR Part 79 (“Registration Regulations”). In it's complaint the United States alleges that the Defendants are all refiners that produced gasoline by sequentially blending natural gasoline with previously certified gasoline and ethanol in tank trucks. Further the United States alleges that the Defendants' blending operations violated the Fuels Regulations and Registration Regulations by failing to comply with the sampling, testing, record keeping and reporting requirements of those regulations and by producing and distributing gasoline that exceeded the applicable Reid Vapor Pressure standards. The proposed Decree requires the Defendants to implement an environmental mitigation project, take actions to prevent future violations of the Fuel and Registration Regulations, and pay a civil penalty of $2.5 million. The environmental mitigation project requires Rocky Mountain Pipeline System to installation a domed cover on an existing fuel storage tank at its Dupont Terminal. The cover will significantly reduce the emission of volatile organic compounds from that tank into the surrounding area.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, D.C. 20044-7611, and should refer to United States v. Rocky Mountain Pipeline System, LLC, et al., Civil Action No. 11-CV-1188RPM-CBS, DOJ No. 90-5-2-1-09998.

The Decree may be examined at the Environment and Natural Resources Division Environmental Enforcement Section, United States Department of Justice Denver Field Office located at 999 18th Street, South Terrace—Suite 370, Denver, CO 80202 or at the United States Environmental Protection Agency Region 8 office located at 1595 Wynkoop Street, Denver, Colorado 80202. During the public comment period, the proposed Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, exclusive of exhibits and defendants' signatures, please enclose a check in the amount of $9.50 (25¢ per page reproduction cost) payable to the U.S. Treasury or, if by e-mail or fax, forward a check in that amount to the Consent Decree Library at the stated address.

Robert Brook,
Assistant Chief, Environmental, Enforcement Section, Environment and Natural Resources Division.

[FR Doc. 2011-12622 Filed 5-23-11; 8:45 am]

BILLING CODE 4410-15-P